DEPARTMENT OF AGRICULTURE

Rural Housing Service

[Docket No. RHS-23-CF-0023]

Community Facilities Program: Virtual Public Listening Session

AGENCY: Rural Housing Service, USDA.

ACTION: Notice of meeting.

SUMMARY: The Community Facilities Loan and Grant program (Community Facilities) of the Rural Housing Service (RHS or the Agency), a Rural Development agency of the United States Department of Agriculture (USDA), is consolidating the existing regulations that govern Community Facility direct loans and grants, fire and rescue and other small community facilities projects; as well as codifying the Tribal College Initiative, and Economic Impact Initiative grant programs that will incorporate all the necessary loan and grant making information into one streamlined final rule. The result will be an up-to-date comprehensive regulation that will be used to administer the programs. Community Facilities is hosting a virtual listening session to obtain stakeholder input on key proposed areas for changes and/or updates to the proposed consolidated Community Facilities Direct Loan and Grant regulation. This session is open to the public.

DATES: The virtual listening session will be held on November 7, 2023, beginning at 2 p.m. (ET).

ADDRESSES: The listening session will convene virtually on the Zoom platform. All participants must pre-register. To register please use the following link:

• General Session—November 7, 2023, 2 p.m. (ET) https://www.zoomgov.com/webinar/register/WN_uRtst_n4QVuQiSLIGVzglg.

A confirmation email, including the Zoom link and teleconference information for the meeting, will be sent upon receipt of the registration.

The Agency will accept comments regarding the subject matter in the SUPPLEMENTARY INFORMATION section of this notice. Comments will be accepted through Federal eRulemaking Portal: Go to https://www.regulations.gov and, in the “Search” box, type in the Docket No. RHS-23-CF-0023. A link to the Notice will appear. You may submit a comment here by selecting the “Comment” button or you can access the “Docket” tab, select the “Notice,” and go to the “Browse & Comment on Documents” Tab. Here you may view comments that have been submitted as well as submit a comment. To submit a comment, select the “comment” button, complete the required information, and select the “Submit Comment” button at the bottom. Information on using Regulations.gov, including instructions for accessing documents, submitting comments, and viewing the docket after the close of the comment period, is available through the site's “FAQ” link at the bottom. Comments on this information collection must be received by December 8, 2023.

FOR FURTHER INFORMATION CONTACT: Surabhi Dabir, Senior Policy Advisor, Community Facilities Program, Rural Housing Service, USDA, 1400 Independence Avenue SW, Washington, DC 20250-0781, Telephone: (202) 568-9315; email: communityfacilities@usda.gov.

SUPPLEMENTARY INFORMATION:

Background

Community Facilities offers direct loans and grants to develop or improve essential facilities and services in communities across rural America. These amenities meet essential needs and help increase the competitiveness of rural communities in attracting and retaining businesses that provide employment and services for their residents.

Public bodies, non-profit organizations and federally recognized Tribes can use the funds to construct, expand or improve facilities that provide health care, education, public safety, and public services. Projects can include fire and rescue stations, village and town halls, health care clinics, hospitals, adult- and child-care centers, assisted living facilities, rehabilitation centers, public buildings, schools, libraries, and many other essential community facilities. Financing may also cover the costs for land acquisition, professional fees, and purchase of equipment when associated with an essential community facility. These facilities not only improve the basic quality of life but assist in the development and sustainability of rural America.

Potential Topics for Comments

The following questions and discussion items are provided as examples of topics stakeholders may wish to provide comment. The Community Facilities Program is requesting comment and discussion on the following topics:

Barriers To Be Addressed

1. What challenges or barriers have you encountered that make it difficult to access CF loan and grant resources?

2. What suggestions do you have for Community Facilities to address these challenges through regulatory changes?

Application Process

3. Community Facilities is contemplating allowing projects below a certain threshold to submit a simplified application with less required documentation. What key requirements would you simplify?

Expanded Eligibility

4. Community Facilities has historically limited investments in recreation type projects. Community Facilities is considering expanding eligibility to certain recreation facilities like hiking/biking trails and public pools. Do you have suggestions for what recreation facilities should and should not be funded?

5. The Agriculture Improvement Act of 2018 (2018 Farm Bill) gave Community Facilities the authority to refinance certain hospital debt to preserve a rural community's access to health services. What suggestions do you have for how Community Facilities should implement the hospital refinancing provision?

6. Community Facilities is contemplating expanding eligibility for funding housing projects to meet the essential workforce needs of the education, health care, and public safety sectors. What types of housing projects should Community Facilities fund? What types of facilities should be allowed to use Agency funding to finance housing projects for a facility's workforce needs? What factors or limitations should Community Facilities consider?

Miscellaneous

7. Any other key topics or issues Community Facilities should consider addressing through the regulation update?

Community Facilities is consolidating its existing regulations at 7 CFR part 3570, subpart B (for grants), and 7 CFR part 1942, subparts A (for CF direct loans) and C (for Fire and Rescue and Other Small Community Facilities Projects), and incorporating all the necessary loan and grant making requirements into one streamlined rule; 7 CFR part 3570, subpart A. This consolidation will update its regulations and codify policies to current practices. It will also codify the Tribal College Initiative and Economic Impact Initiative grant programs. Community Facilities is seeking stakeholder input on key proposed areas for changes and updates to the consolidated Community Facilities Direct Loan and Grant regulation. In addition to participating in the listening sessions, stakeholders may provide written comments to the agency until December 8, 2023.

After the listening session, the Agency will consider stakeholder input for identifying opportunities for regulatory updates to policies and practices of Community Facilities' direct loan and grant programs.

Joaquin Altoro,
Administrator, Rural Housing Service.

[FR Doc. 2023-24119 Filed 10-31-23; 8:45 am]

BILLING CODE 3410-XV-P